DEPARTMENT OF VETERANS AFFAIRS

Enhanced-Use Lease Development of Property at the Department of Veterans Affairs Medical Center, Charleston, SC

AGENCY: Department of Veterans Affairs.

ACTION: Notice of intent to designate.

SUMMARY: The Secretary of the Department of Veterans Affairs (VA) intends to designate approximately .48 acres of real property at the Department of Veterans Affairs Medical Center, in Charleston, South Carolina, to be leased under an enhanced-use lease. The Department intends to enter into a 35 to 75-year lease of such property with the “Medical University Hospital Authority,” a public authority of the State of South Carolina and an affiliate of the “Medical University of South Carolina,” who would finance, design, develop, maintain and manage the expansion of its medical center complex.

FOR FURTHER INFORMATION CONTACT: Anthony Sherman, Capital Asset Management and Planning Service (182C), Department of Veterans Affairs, 810 Vermont Avenue, NW., Washington, DC 20420, (202) 565-6863.

SUPPLEMENTARY INFORMATION: 38 U.S.C. 8161, et seq., specifically provides that the Secretary may enter into an enhanced-use lease if he determines that the implementation of a concept plan proposed by the Under Secretary for Health for applying the consideration under such a lease to the provisions of medical care and services would result in a demonstrable improvement of services to eligible veterans in the geographic service-delivery area within which the property is located. This project meets this requirement.

Approved: September 2, 2003.
Anthony J. Principi,
Secretary of Veterans Affairs.

[FR Doc. 03-22955 Filed 9-9-03; 8:45 am]

BILLING CODE 8320-01-P